DEPARTMENT OF ENERGY

Federal Energy Regulatory Commission

[Docket No. ER00-2147-000]

PowerGasSmart.com, Inc.; Notice of Filing

April 20, 2000.

Take notice that on April 3, 2000, PowerGasSmart.com, Inc. filed a name change with their quarterly report for the quarter ending March 31, 2000. The quarterly report was noticed on April 10, 2000, but the name change was not.

The legal name change was as follows:

Old: Wilson Power & Gas Smart, Inc.

New: PowerGasSmart.com, Inc.

Any person desiring to be heard or to protest such filing should file a motion to intervene or protest with the Federal Energy Regulatory Commission, 888 First Street, N.E., Washington, DC 20426, in accordance with rules 211 and 214 of the Commission's Rules of Practice and Procedure (18 CFR 385.211 and 385.214). All such motions and protests should be filed on or before May 1, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-10333 Filed 4-25-00; 8:45 am]

BILLING CODE 6717-01-M